DEPARTMENT OF TRANSPORTATION

Federal Aviation Administration

14 CFR Part 39

[Docket No. FAA-2011-0687; Directorate Identifier 2011-CE-017-AD]

RIN 2120-AA64

Airworthiness Directives; Diamond Aircraft Industries GmbH Model (Diamond) DA 40 Airplanes Equipped With Certain Cabin Air Conditioning Systems

AGENCY: Federal Aviation Administration (FAA), DOT.

ACTION: Notice of proposed rulemaking (NPRM).

SUMMARY: We propose to adopt a new airworthiness directive (AD) for the products listed above. This proposed AD would require deactivation and removal of the vapor cycle system (VCS) installed per STC SA03674AT held by Premier Aircraft Services (originally held by DER Services) following DER Services Master Document List MDL-2006-020-1, Revision C, dated February 3, 2009; Revision D, dated April 22, 2009; Revision E, dated May 12, 2010; or Revision F, dated July 6, 2010. This proposed AD would also require revision to the airplane weight and balance. This proposed AD was prompted by reports of damage around the VCS compressor mounting areas found during maintenance inspections. We are proposing this AD to remove the VCS mount, which could result in the air conditioner compressor disconnecting in the engine compartment. This condition could result in engine stoppage or additional damage to the engine.

DATES: We must receive comments on this proposed AD by August 12, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Premier Aircraft Service, 5540 NW. 23 Avenue Hangar 14, Ft. Lauderdale, FL 33309, telephone: (954) 771-0411; fax: (954) 334-1489; Internet: http://www.flypas.com. You may review copies of the referenced service information at the FAA, Small Airplane Directorate, 901 Locust St., Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Hal Horsburgh, Aerospace Engineer, FAA, Atlanta Aircraft Certification Office, 1701 Columbia Avenue, College Park, Georgia 30337; telephone: (404) 474-5553; fax: (404) 474-5606; e-mail: hal.horsburgh@faa.gov.

SUPPLEMENTARY INFORMATION:

Comments Invited

We invite you to send any written relevant data, views, or arguments about this proposal. Send your comments to an address listed under the ADDRESSES section. Include “Docket No. FAA-2011-0687, Directorate Identifier 2011-CE-017-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received reports of damage found during maintenance inspections of the Diamond Model DA 40 airplanes equipped with a VCS installed per Premier Aircraft Service STC SA03674AT held by Premier Aircraft Services (originally held by DER Services) following DER Services Master Document List MDL-2006-020-1, Revision C, dated February 3, 2009; Revision D, dated April 22, 2009; Revision E, dated May 12, 2010; or Revision F, dated July 6, 2010. The damage included excessive wear in the VCS compressor mounting holes, mounting brackets, and the mounting bolt, and denting was found around the mounting bracket and compressor due to unintended relative motion. We are proposing this AD to remove the VCS mount, which could result in the air conditioner compressor disconnecting in the engine compartment. This condition could result in engine stoppage or additional damage to the engine.

Relevant Service Information

We reviewed Premier Aircraft Service Work Instruction PAS-WI-MSB-40-2011-001, dated March 4, 2011; and Premier Aircraft Service Mandatory Service Bulletin No. PAS-MSB-40-2011-001, dated March 4, 2011. The service information describes procedures for deactivation of the VCS Compressor and associated mounting hardware and the removal of the VCS installed per Premier Aircraft Service STC SA03674AT.

FAA's Determination

We are proposing this AD because we evaluated all the relevant information and determined the unsafe condition described previously is likely to exist or develop in other products of the same type design.

Proposed AD Requirements

This proposed AD would require deactivation of the VCS Compressor and removal of the VCS and the associated mounting hardware, except as discussed under “Differences Between the Proposed AD and the Service Information.”

Differences Between the Proposed AD and the Service Information

The service information requires compliance prior to flight after effectivity of the service information. The service information also includes a reporting requirement.

This proposed AD requires a compliance time of within the next 100 hours time-in-service after installation of the STC or 30 days after the effective date of this proposed AD, whichever occurs later. We are not including the reporting requirement.

Costs of Compliance

We estimate that this proposed AD affects 11 airplanes of U.S. registry.

We estimate the following costs to comply with this proposed AD:

Estimated Costs
Action | Labor cost | Parts cost | Cost per product | Cost on U.S. operators
Remove the VCS compressor, deactivate system, and revise weight and balance | 3 work-hours × $85 per hour = $255 | Not applicable | $255 | $2,805

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Diamond Aircraft Industries GmbH Model (Diamond) DA 40 Airplanes Equipped With Certain Cabin Air Conditioning Systems: Docket No. FAA-2011-0687; Directorate Identifier 2011-CE-017-AD.

Comments Due Date

(a) We must receive comments by August 12, 2011.

Affected ADs

(b) None.

Applicability

(c) This AD applies to Diamond Aircraft Industries GmbH Model DA 40 airplanes, all serial numbers that:

(1) Are equipped with vapor cycle system (VCS) cabin air conditioning systems installed per Premier Aircraft Services Supplemental Type Certificate (STC) SA03674AT following DER Services Master Document List MDL-2006-020-1, Revision C, dated February 3, 2009; Revision D, dated April 22, 2009; Revision E, dated May 12, 2010; or Revision F, dated July 6, 2010; and

(2) Are certificated in any category.

Subject

(d) Joint Aircraft System Component (JASC) Code 2150, Cabin Cooling System.

Unsafe Condition

(e) This AD was prompted by reports of damage around the VCS compressor mounting area found during maintenance inspections. We are proposing this AD to remove the VCS compressor and mount, as a result of excessive wear, which could result in the air conditioner compressor disconnecting in the engine compartment. This condition could result in engine stoppage or additional damage to the engine.

Compliance

(f) Comply with this AD within the compliance times specified, unless already done.

Required Actions

(g) Within the next 100 hours time-in-service after installation of the VCS installed per STC SA03674AT held by Premier Aircraft Services (originally held by DER Services) following DER Services Master Document List MDL-2006-020-1, Revision C, dated February 3, 2009; Revision D, dated April 22, 2009; Revision E, dated May 12, 2010; or Revision F, dated July 6, 2010, or within 30 days after the effective date of this AD, whichever occurs later, do the following actions following Premier Aircraft Service Work Instruction PAS-WI-MSB-40-2011-001, dated March 4, 2011; and Premier Aircraft Service Mandatory Service Bulletin No. PAS-MSB-40-2011-001, dated March 4, 2011:

(1) Deactivate the VCS system.

(2) Pull and collar the compressor breaker and place a placard above the breaker stating “INOP.”

(3) Remove the VCS compressor and associated mounting hardware.

(4) Revise the airplane weight and balance.

Special Flight Permit

(h) The compressor drive belt must be cut and removed before the airplane may be moved for one ferry flight to an approved repair facility to comply with the remainder of this proposed AD.

Alternative Methods of Compliance (AMOCs)

(i)(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

Related Information

(j) For more information about this AD, contact Hal Horsburgh, Aerospace Engineer, FAA, Atlanta ACO, 1701 Columbia Avenue, College Park, Georgia 30337; telephone: (404) 474-5553; fax: (404) 474-5606; e-mail: hal.horsburgh@faa.gov.

(k) For service information identified in this AD, contact Premier Aircraft Service, 5540 NW. 23 Avenue Hangar 14, Ft. Lauderdale, FL 33309, telephone: (954) 771-0411; fax: (954) 334-1489; Internet: http://www.flypas.com. You may review copies of the referenced service information at the FAA, Small Airplane Directorate, 901 Locust, Kansas City, MO 64106. For information on the availability of this material at the FAA, call (816) 329-4148.

Issued in Kansas City, Missouri, on June 22, 2011.
John Colomy,
Acting Manager, Small Airplane Directorate, Aircraft Certification Service.

[FR Doc. 2011-16137 Filed 6-27-11; 8:45 am]

BILLING CODE 4910-13-P